DEPARTMENT OF THE INTERIOR

National Park Service

Temporary Concession Contract for Pinnacles National Monument, CA

AGENCY: National Park Service, Interior.

ACTION: Notice of proposed award of temporary concession contract for the operation of the Pinnacles Campground Store within Pinnacles National Monument, CA.

EFFECTIVE DATE: The term of the temporary concession contract will commence as of the day after the termination date of the current temporary concession contract, TC-PINN001-06.

FOR FURTHER INFORMATION CONTACT: Jo A. Pendry, Concession Program Manager, National Park Service, Washington, DC 20240, Telephone 202/513-7156.

SUMMARY: Pursuant to 36 CFR 51.24, public notice is hereby given that the National Park Service proposes to award a temporary concession contract for the conduct of retail services (“Services”) available to the public visiting Pinnacles National Monument, California for a term not to exceed 16 months. The visitor services include the operation of a small convenience/grocery store. This action is necessary to avoid interruption of visitor services.

SUPPLEMENTARY INFORMATION: The temporary concession contract is proposed to be awarded to Damm Bros. Company, a qualified person. The store is currently operated under TC-PINN001-06, a contract that includes the operation of the adjacent campground. The owner of the current concession under TC-PINN001-06 has become ill and must terminate his contract before its original expiration date of March 15, 2008. Upon termination of TC-PINN001-06, the National Park Service will begin to operate the campground. However, the store will be operated under temporary concession contract TC-PINN001-08.

The National Park Service has determined that a temporary contract is necessary in order to avoid interruption of visitor services and has taken all reasonable and appropriate steps to consider alternatives to avoid an interruption of visitor services.

This action is issued pursuant to 36 CFR 51.24(a). This is not a request for proposals.

Dated: March 21, 2008.
Daniel N. Wenk,
Deputy Director, National Park Service.

[FR Doc. E8-8660 Filed 4-21-08; 8:45 am]

BILLING CODE 4312-53-M